DEPARTMENT OF LABOR

Employment and Training Administration

[NAFTA—03972]

Ametek U.S. Gauge Division, Sellersville, Pennsylvania; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 USC 2273), an investigation was initiated on June 12, 2000 in response to a petition filed by the International Association of Machinists and Aerospace Workers on behalf of workers and former workers at Ametek U.S. Gauge, U.S. Division, Sellersville, Pennsylvania.

The petitioner has requested that the petition be withdrawn. Consequently, further investigation in this case would serve no purpose, and the investigation has been terminated.

Signed at Washington, DC, this 28th day of June 2000.
Edward A. Tomchick,
Director, Division of Trade Adjustment Assistance.

[FR Doc. 00-17309 Filed 7-7-00; 8:45 am]

BILLING CODE 4510-30-M